DEPARTMENT OF THE INTERIOR

Bureau of Land Management

[AZ-931-1430-ET; AZAR 0034563]

Public Land Order No. 7675; Transfer of Administrative Jurisdiction, Petrified Forest National Park Expansion; Arizona

AGENCY: Bureau of Land Management, Interior.

SUMMARY: This order transfers administrative jurisdiction over 15,228.05 acres of public lands from the Bureau of Land Management to the National Park Service for the expansion of the Petrified Forest National Park.

DATES: Effective Date: May 18, 2007.

FOR FURTHER INFORMATION CONTACT: Michael J. Werner, Bureau of Land Management, Arizona State Office, One N. Central Avenue, Suite 800, Phoenix, Arizona 85004.

SUPPLEMENTARY INFORMATION: Public Law 108-430 directs the Secretary of the Interior to transfer administrative jurisdiction of public lands described in this order to the National Park Service to adjust the boundary of the Petrified Forest National Park.

Order

By virtue of the authority vested in the Secretary of the Interior by Public Law No. 108-430, 118 Stat. 2607, and Section 204 of the Federal Land Policy and Management Act of 1976, 43 U.S.C. 1714 (2000), it is ordered as follows:

1. Subject to valid existing rights, administrative jurisdiction of the following described public lands is hereby transferred from the Bureau of Land Management to the National Park Service:

Gila and Salt River Meridian, Arizona

T. 17 N., R. 23 E.,

Sec. 4, lots 1 to 4, inclusive, S½N½, and S½; sec. 6, lots 1, 2, 3, 5, 6, and 7, S½NE¼, SE¼NW¼, E½SW¼, and SE¼; sec. 12.

T. 18 N., R. 23 E.,

Sec. 14, N½NE¼; sec. 22; sec. 28, W½; sec. 34, S½.

T. 18 N., R. 24 E.,

Sec. 10, E½; sec. 12, N½ and S½SW¼.

T. 18 N., R. 25 E.,

Sec. 6, lots 3 to 7, inclusive, S½NE¼, and SE¼NW¼; sec. 18, lots 1 to 4, inclusive, E½, and E½W½; sec. 30, lots 1 to 4, inclusive, E½, and E½W½.

T. 19 N., R. 23 E.,

Sec. 22, N½, SW¼, and W½SE¼; sec. 28.

T. 19 N., R 24 E.,

Secs. 22, 24, and 26;

T. 19 N., R 25 E.,

Sec. 2, lot 1, SE¼NE¼, SE¼SW¼, and SE¼; sec. 5, W½SW¼; sec. 6, lots 7, 12, 14, 15, and 16, E½SW¼, and SE¼; sec. 7, lots 1 to 4, inclusive, E½, and E½W½; secs. 8, 9, and 10; sec. 11, That portion lying North and West of the Atchison, Topeka and Santa Fe Railway Company's right-of way;

Excepting that portion described as follows: Commencing at the Southwest corner of sec. 35, T. 20 N., R. 25 E., Gila and Salt River Meridian; Thence South 00° 03′ 30″ West along the southerly prolongation of the westerly line of said Section 35, a distance of 6,300 feet; Thence South 89° 56′ 30″ East 50.00 feet to the True Point of Beginning of the parcel being herein described; Thence continuing South 89° 56′ 30″ East 200.00 feet; Thence South 00° 03′ 30″ West 250.00 feet; Thence North 89° 56′ 30″ West 200.00 feet; Thence North 00° 03′ 30″ East 250.00 feet to the point of ending, Containing 1.15 acres, more or less;

Sec. 15, That portion lying North and West of the Atchison, Topeka and Santa Fe Railway Company's right-of-way; secs. 16 and 17; sec. 18, lots 1 to 4, inclusive, E½, and E½W½; sec. 19, lots 1 to 4, inclusive, E½, and E½W½; sec. 20; sec. 21, That portion lying North and West of the Atchison, Topeka and Santa Fe Railway Company's right-of-way; sec. 29, That portion lying North and West of the Atchison, Topeka and Santa Fe Railway Company's right-of-way.

The areas described aggregate 15,228.05 acres in Apache and Navajo Counties.

2. The lands described in Paragraph 1 shall be administered as part of the Petrified Forest National Park in accordance with the provisions of Public Law 108-430.

Dated: April 5, 2007.
C. Stephen Allred,
Assistant Secretary—Land and Minerals Management.

[FR Doc. E7-9586 Filed 5-17-07; 8:45 am]

BILLING CODE 4310-32-P